DEPARTMENT OF ENERGY

Office of Fossil Energy

[FE Docket No. 01-35-NG, 01-32-LNG and 01-36-NG]

Mexicana de Cobre, S.A. de C.V., Williams Energy Marketing Trading Company, TX Energy Trading Company; Orders Granting and Amending Authority To Import and Export Natural Gas, Including Liquefied Natural Gas

AGENCY: Office of Fossil Energy, DOE.

ACTION: Notice of Orders.

SUMMARY: The Office of Fossil Energy (FE) of the Department of Energy gives notice that during June 2001, it issued Orders granting authority to import and export natural gas, including liquefied natural gas. These Orders are summarized in the attached appendix and may be found on the FE web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on August 10, 2001.
Clifford P. Tomaszewski,
Manager, Natural Gas Regulation, Office of Natural Gas & Petroleum Import & Export Activities, Office of Fossil Energy.

Attachment

Appendix—Orders Granting Import/Export Authorizations
Order No. | Date Issued | Importer/Export FE Docket No. | Import volume | Exporter Volume | Comments
1697 | 07-02-01 | Mexicana De Cobre, S.A. DE C.V., 01-35-NG |  | 17.2 Bcf | Export to Mexico beginning on April 27, 2001, and extending through April 26, 2003.
1698 | 07-02-01 | Williams Energy Marketing & Trade Company, 01-32-LNG | 160 Bcf |  | Import LNG from Nigeria, Algeria, Abu Dhabi, Qatar, and Trinidad, over a two-year term beginning on the date of first delivery.
1699 | 07-13-01 | TXU Energy Trading Company, 01-36-NG | 20 Bcf |  | Import and export a combined total from and to Canada and Mexico, beginning on July 27, 2001, and extending through July 26, 2003.

[FR Doc. 01-20901 Filed 8-17-01; 8:45 am]

BILLING CODE 6450-01-P